DEPARTMENT OF ENERGY

Federal Energy Regulatory Commission

Notice of Commission Staff Attendance

The Federal Energy Regulatory Commission hereby gives notice that members of the Commission's staff may attend the following meetings and/or teleconferences related to the transmission planning activities of the Southwest Power Pool, Inc. (SPP):

Regional Tariff Working Group—August 15-16, 2012.

Regional Tariff Working Group—August 22-23, 2012.

Regional Tariff Working Group—August 29-30, 2012.

The above-referenced Regional Tariff Working Group meeting will be held at: AEP Office, 8th Floor Conference Room, 1015 Elm St., Dallas, Texas 75201.

The above-referenced meetings and teleconferences are open to the public.

Further information may be found at www.misoenergy.org.

The discussions at the meeting described above may address matters at issue in the following proceedings:

Docket No. ER09-35-001, Tallgrass Transmission, LLC.

Docket No. ER09-36-001, Prairie Wind Transmission, LLC.

Docket No. ER09-548-001, ITC Great Plains, LLC.

Docket No. ER09-659-002, Southwest Power Pool, Inc.

Docket No. ER11-4105-000, Southwest Power Pool, Inc.

Docket No. EL11-34-001, Midwest Independent Transmission System Operator, Inc.

Docket No. ER12-1179-000, Southwest Power Pool, Inc.

Docket No. ER12-1401-000, Southwest Power Pool, Inc.

Docket No. ER12-1401-000, Southwest Power Pool, Inc.

Docket No. ER12-1415-000, Southwest Power Pool, Inc.

Docket No. ER12-1460-000, Southwest Power Pool, Inc.

Docket No. ER12-1610-000, Southwest Power Pool, Inc.

Docket No. ER12-1772-000, Southwest Power Pool, Inc.

Docket No. ER12-1779-000, Southwest Power Pool, Inc.

Docket No. ER12-2366-000, Southwest Power Pool, Inc.

Docket No. EL12-2-000, Southwest Power Pool, Inc.

Docket No. EL12-60-000, Southwest Power Pool, Inc., et al.

For more information, contact Luciano Lima, Office of Energy Markets Regulation, Federal Energy Regulatory Commission at (202) 502-6210 or luciano.lima@ferc.gov.

Dated: August 9, 2012.
Kimberly D. Bose,
Secretary.

[FR Doc. 2012-20312 Filed 8-17-12; 8:45 am]

BILLING CODE 6717-01-P